DEPARTMENT OF ENERGY

Federal Energy Regulatory Commission

Combined Notice of Filings #1

Take notice that the Commission received the following exempt wholesale generator filings:

Docket Numbers: EG17-122-000.

Applicants: SUNE Beacon Site 2, LLC.

Description: Notice of Self-Certification of EWG Status of SunE Beacon Site 2 LLC.

Filed Date: 7/11/17.

Accession Number: 20170711-5256.

Comments Due: 5 p.m. ET 8/1/17.

Docket Numbers: EG17-123-000.

Applicants: Great Bay Solar 1, LLC.

Description: Self-Certification of EWG of Great Bay Solar 1, LLC.

Filed Date: 7/11/17.

Accession Number: 20170711-5257.

Comments Due: 5 p.m. ET 8/1/17.

Take notice that the Commission received the following electric rate filings:

Docket Numbers: ER17-942-001.

Applicants: Lazarus Energy Holdings, LLC.

Description: Compliance filing: Tariff Revision and Cancellation to be effective 2/6/2017.

Filed Date: 7/12/17.

Accession Number: 20170712-5002.

Comments Due: 5 p.m. ET 8/2/17.

Docket Numbers: ER17-1581-001.

Applicants: Florida Power & Light Company.

Description: Compliance filing: FPL, JEA, and FPUC-IA for Nassau-Oneil-FPUC Stepdown Substations Compliance to be effective 5/11/2017.

Filed Date: 7/11/17.

Accession Number: 20170711-5237.

Comments Due: 5 p.m. ET 8/1/17.

Docket Numbers: ER17-1639-001.

Applicants: AEP Generation Resources Inc.

Description: Tariff Amendment: AEP GR Conesville Zimmer Reactive Filing RS3 Deficiency to be effective 5/9/2017.

Filed Date: 7/11/17.

Accession Number: 20170711-5238.

Comments Due: 5 p.m. ET 8/1/17.

Docket Numbers: ER17-1728-001.

Applicants: Midcontinent Independent System Operator, Inc.

Description: Tariff Amendment: 2017-07-12 Amendment to Attachment X Clean-up filing to be effective 7/12/2017.

Filed Date: 7/12/17.

Accession Number: 20170712-5067.

Comments Due: 5 p.m. ET 8/2/17.

Docket Numbers: ER17-2075-000.

Applicants: Idaho Power Company.

Description: § 205(d) Rate Filing: EIM Tariff to be effective 9/11/2017.

Filed Date: 7/12/17.

Accession Number: 20170712-5003.

Comments Due: 5 p.m. ET 8/2/17.

Docket Numbers: ER17-2076-000.

Applicants: Southwest Power Pool, Inc.

Description: § 205(d) Rate Filing: 3341 KCP&L and City of Gardner, KS Interconnection Agreement to be effective 6/29/2017.

Filed Date: 7/12/17.

Accession Number: 20170712-5044.

Comments Due: 5 p.m. ET 8/2/17.

Docket Numbers: ER17-2077-000.

Applicants: Southwest Power Pool, Inc.

Description: § 205(d) Rate Filing: 3342 MKEC/Pratt Energy/KEPCO/Ninnescah Interconnection Agr to be effective 6/29/2017.

Filed Date: 7/12/17.

Accession Number: 20170712-5045.

Comments Due: 5 p.m. ET 8/2/17.

Docket Numbers: ER17-2078-000.

Applicants: Midcontinent Independent System Operator, Inc.

Description: Notice of Cancellation of Transmission Interconnection Agreement No. 2090 of Midcontinent Independent System Operator, Inc.

Filed Date: 7/12/17.

Accession Number: 20170712-5081.

Comments Due: 5 p.m. ET 8/2/17.

Docket Numbers: ER17-2079-000.

Applicants: PJM Interconnection, L.L.C.

Description: § 205(d) Rate Filing: Original Service Agreement No. 4696; Queue AA2-053/AA2-174 (ISA) to be effective 6/12/2017.

Filed Date: 7/12/17.

Accession Number: 20170712-5102.

Comments Due: 5 p.m. ET 8/2/17.

Docket Numbers: ER17-2080-000.

Applicants: PJM Interconnection, L.L.C.

Description: § 205(d) Rate Filing: Amendment to WMPA SA No. 3246; Queue No. W1-119 to be effective 4/30/2014.

Filed Date: 7/12/17.

Accession Number: 20170712-5108.

Comments Due: 5 p.m. ET 8/2/17.

Docket Numbers: ER17-2081-000.

Applicants: PJM Interconnection, L.L.C.

Description: § 205(d) Rate Filing: Amendment to WMPA SA No. 3247; Queue No. W1-120 to be effective 4/30/2014.

Filed Date: 7/12/17.

Accession Number: 20170712-5114.

Comments Due: 5 p.m. ET 8/2/17.

Docket Numbers: ER17-2082-000.

Applicants: West Valley Power, LLC.

Description: Tariff Cancellation: Cancellation of Market Based Rate Tariff to be effective 7/13/2017.

Filed Date: 7/12/17.

Accession Number: 20170712-5149.

Comments Due: 5 p.m. ET 8/2/17.

Docket Numbers: ER17-2083-000.

Applicants: Midcontinent Independent System Operator, Inc.

Description: § 205(d) Rate Filing: 2017-07-12_SA 3030 Tenaska-Entergy GIA (J486) to be effective 7/13/2017.

Filed Date: 7/12/17.

Accession Number: 20170712-5158.

Comments Due: 5 p.m. ET 8/2/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 12, 2017.
Nathaniel J. Davis, Sr.,
Deputy Secretary.

[FR Doc. 2017-15057 Filed 7-17-17; 8:45 am]

BILLING CODE 6717-01-P